DEPARTMENT OF LABOR

Employment and Training Administration

[TA-W-54,880]

Wehadkee Yarn Mills, Rock Mills Division, Rock Mills, AL; Notice of Termination of Investigation

Pursuant to section 221 of the Trade Act of 1974, as amended, an investigation was initiated on May 11, 2004, in response to a petition filed by a company official on behalf of workers at Wehadkee Yarn Mills, Rock Mills Division, Rock Mills, Alabama.

The petitioner has requested that the petition be withdrawn. Consequently, the investigation has been terminated.

Signed in Washington, DC this 2nd day of June, 2004.
Linda G. Poole,
Certifying Officer, Division of Trade Adjustment Assistance.

[FR Doc. 04-13377 Filed 6-14-04; 8:45 am]

BILLING CODE 4510-30-P